DEPARTMENT OF EDUCATION

[Docket No.: ED-2015-ICCD-0096]

Agency Information Collection Activities; Submission to the Office of Management and Budget for Review and Approval; Comment Request; Program for International Student Assessment 2012 (PISA:2012) Validation Study 2015 Field Test and Main Study Additional Module Amendment

AGENCY: Institute of Education Science (IES), Department of Education (ED).

ACTION: Notice.

SUMMARY: In accordance with the Paperwork Reduction Act of 1995 (44 U.S.C. chapter 3501 et seq.), ED is proposing a revision of an existing information collection.

DATES: Interested persons are invited to submit comments on or before August 27, 2015.

ADDRESSES: To access and review all the documents related to the information collection listed in this notice, please use http://wwww.regulations.gov by searching the Docket ID number ED-2015-ICCD-0096. Comments submitted in response to this notice should be submitted electronically through the Federal eRulemaking Portal at http://www.regulations.gov by selecting the Docket ID number or via postal mail, commercial delivery, or hand delivery. Please note that comments submitted by fax or email and those submitted after the comment period will not be accepted. Written requests for information or comments submitted by postal mail or delivery should be addressed to the Director of the Information Collection Clearance Division, U.S. Department of Education, 400 Maryland Avenue SW., LBJ, Room 2E103, Washington, DC 20202-4537.

FOR FURTHER INFORMATION CONTACT: For specific questions related to collection activities, please contact Kashka Kubzdela, (202) 502-7411.

SUPPLEMENTARY INFORMATION: The Department of Education (ED), in accordance with the Paperwork Reduction Act of 1995 (PRA) (44 U.S.C. 3506(c)(2)(A)), provides the general public and Federal agencies with an opportunity to comment on proposed, revised, and continuing collections of information. This helps the Department assess the impact of its information collection requirements and minimize the public's reporting burden. It also helps the public understand the Department's information collection requirements and provide the requested data in the desired format. ED is soliciting comments on the proposed information collection request (ICR) that is described below. The Department of Education is especially interested in public comment addressing the following issues: (1) Is this collection necessary to the proper functions of the Department; (2) will this information be processed and used in a timely manner; (3) is the estimate of burden accurate; (4) how might the Department enhance the quality, utility, and clarity of the information to be collected; and (5) how might the Department minimize the burden of this collection on the respondents, including through the use of information technology. Please note that written comments received in response to this notice will be considered public records.

Title of Collection: Program for International Student Assessment 2012 (PISA:2012) Validation Study 2015 Field Test and Main Study Additional Module Amendment.

OMB Control Number: 1850-0911.

Type of Review: A revision of an existing information collection.

Respondents/Affected Public: Individuals.

Total Estimated Number of Annual Responses: 6,620.

Total Estimated Number of Annual Burden Hours: 2,347.

Abstract: PISA (Program for International Student Assessment) is an international assessment of 15-year-olds designed to evaluate, at the end of compulsory education, how well students are prepared for the challenges of further education and the workforce (OMB# 1850-0755). To date, in the United States, PISA has been administered only as a cross-sectional study, and thus it has not been possible to evaluate how well it assesses key competencies of 15-year-olds for their later success. NCES proposes to conduct a follow-up study with students who participated in PISA 2012 to learn how performance on PISA relates to subsequent outcomes and skills of young adults. The follow-up study—referred to in materials to potential respondents as the PISA Young Adult Follow-Up Study, and in this request as the PISA Validation Study—will provide information about how students' skills and experiences at age 15, collected through PISA, relate to subsequent literacy, numeracy, and problem-solving skills, as well as educational attainment, education and work experiences, skills used in daily life, career intentions, and aspects of well-being. In fall 2015, when these students will be around 18 years of age, they will be asked to take the web-based version of the Organization for Economic Cooperation and Development 's (OECD) Program for the International Assessment of Adult Competencies (PIAAC) assessment and background questionnaire—the Education and Skills Online (ESO). In fall 2013, students in the United States who participated in PISA 2012 and supplied contact information were contacted and invited to update their contact information in preparation for the follow-up study (OMB# 1850-0900 v.1). In March 2015, OMB approved recruitment of the PISA 2012 sample respondents who have been successfully located; administer ESO to a field test sample in the 2015; and subsequently administering ESO to a main study sample in later 2015 (OMB# 1850-0900 v.2). This submission is to add another module, the subjective well-being and health (SWBH) module, to the validation study questionnaire per OECD requirement. The SWBH module was included in the first approval for PISA Validation Study 2015 (OMB# 1850-0900 v.1) and is now being added to the final field test and main study questionnaire in the currently active PISA Validation Study 2015 record (OMB# 1850-0900 v.2).

Dated: July 22, 2015.
Kate Mullan,
Acting Director, Information Collection Clearance Division, Office of the Chief Privacy Officer, Office of Management.

[FR Doc. 2015-18350 Filed 7-27-15; 8:45 am]

BILLING CODE 4000-01-P